ENVIRONMENTAL PROTECTION AGENCY

[FRL-6884-6]

Agency Information Collection Activities: Proposed Collection; Comment Request; Assessing Public Opinions on Visibility Impairment Due to Air Pollution

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Assessing Public Opinions on Visibility Impairment due to Air Pollution (ICR number 1970.01). Before submitting the ICR to OMB for review and approval, EPA is soliciting comments on specific aspects of the proposed information collection as described below.

DATES: Comments should be submitted on or before December 12, 2000.

ADDRESSES: Comments should be submitted to Mr. Rich Damberg, Office of Air Quality Planning and Standards, Mail Code 15, U.S. Environmental Protection Agency, Research Triangle Park NC 27711, email damberg.rich@epa.gov, phone 919-541-5592, fax 919-541-7690.

Availability of Related Information

A summary of the focus group process and the proposed questions can be obtained without charge by contacting Rich Damberg at the address or telephone number listed above. Be sure to include name, address, telephone number, e-mail if available, and delivery preference (mail or e-mail delivery).

Electronic Availability

The summary and proposed questions can also be obtained online at the Agency's Office of Air Quality Planning and Standards (OAQPS) Technology Transfer Network (TTN) under the technical area of “Office of Air and Radiation Policy and Guidance (OAR P&G), and under the heading of “General Documents” at the following web site: http://www.epa.gov/ttn/oarpg/gener.html. If assistance is needed in accessing the system, call the help desk at (919) 541-5384 in Research Triangle Park, NC.

FOR FURTHER INFORMATION CONTACT: Mr. Rich Damberg at (919) 541-5592.

SUPPLEMENTARY INFORMATION: Affected Entities: Entities potentially affected by this action are individuals who agree to participate in the focus groups. Participation is voluntary and subjects will be appropriately compensated for their time and effort. Recruiting will be done by Abt Associates Inc., in a manner described in the abstract below.

Title: Assessing Public Opinions on Visibility Impairment Due to Air Pollution (EPA ICR number 1970.01).

Abstract: The purpose of this project is to obtain information regarding public opinions on visibility impairment. The findings will be used to inform the review of the National Ambient Air Quality Standards (NAAQS) for Particulate Matter (PM). Secondary NAAQS are established to protect against adverse effects on public welfare, and one of the welfare effects associated with airborne PM is visibility impairment. These focus groups will provide one important tool for obtaining information on people's views on discernability and acceptability of differing levels of visibility impairment. Photographic representations will be prepared for each focus group city that illustrate visibility at differing levels of pollution, and will be used along with the focus group discussion questions to elicit comment on people's views on discernability and acceptability of different levels of visibility. A contractor, Abt Associates Inc., will develop and implement the focus group discussions, including coordination of focus group facilitation. We plan to recruit subjects from six or seven U.S. metropolitan areas. Subjects will be asked to participate in a focus group discussion, which will last 2 or 2½ hours. Approximately nine to twelve subjects will be recruited for each focus group session. Participation is voluntary. Respondents will have to expend time, effort, and possibly travel expense to participate in the study. As such, we will compensate subjects for their time (and travel if necessary). An agency may not conduct or sponsor, and a person is not required to respond to, a collection of information unless it displays a currently valid OMB control number. The OMB control numbers for EPA's regulations are listed in 40 CFR part 9 and 48 CFR chapter 15. We solicit comment on the summary of the proposed focus group project, and specifically solicit comment on the following issues:

(i) Whether the proposed collection of information is necessary for the proper performance of the functions of the agency, including whether the information will have practical utility;

(ii) The accuracy of the agency's estimate of the burden of the proposed collection of information, including the validity of the methodology and assumptions used;

(iii) The quality, utility, and clarity of the information to be collected; and

(iv) Minimization of the burden of the collection of information on those who are to respond, including through the use of appropriate automated electronic, mechanical, or other technological collection techniques or other forms of information technology, e.g., permitting electronic submission of responses.

Burden Statement: The total national burden estimate for all parts of the questionnaire process is 672 hours. The burden estimates are based on participation by 12 subjects in 14 focus group discussions (2 different sessions in each selected city). We estimate that each subject will require, on average, 1 minute to refuse to participate during the phone recruiting process, and up to 4 hours to participate in the focus group (including possible travel time). Given these assumptions, the total burden for the survey in terms of participant time (672 hours) valued at $13.18 (the average hourly earnings for May 1999 according to the Bureau of Labor Statistics) is estimated to be $8,857 prior to the payment of the proposed compensation. We stress again that participation by subjects in the survey is voluntary and that subjects will be compensated for their time and effort. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 2, 2000.
Henry C. Thomas,
Acting Director, Office of Air Quality Planning and Standards.

[FR Doc. 00-26352 Filed 10-12-00; 8:45 am]

BILLING CODE 6560-50-P